DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program: Phase IV—(OMB No. 0930-0257)—Revision

SAMHSA's Center for Mental Health Services is responsible for the national evaluation of the Comprehensive Community Mental Health Services for Children and Their Families Program that will collect data on child mental health outcomes, family life, and service system development and performance.

The national evaluation of the Comprehensive Community Mental Health Services for Children and Their Families Program will collect data on child mental health outcomes, family life, and service system development and performance. Data will be collected on 27 service systems, and roughly 5,922 children and families. Data collection for this evaluation is conducted over a 5-year period. The core of service system data will be collected every 18 months throughout the 5-year evaluation period, with a sustainability survey conducted in selected years. Service delivery and system variables of interest include the following: Maturity of system of care development, adherence to the system of care program model, and client service experience. The length of time that individual families will participate in the study ranges from 18 to 36 months depending on when they enter the evaluation. Child and family outcomes of interest will be collected at intake and during subsequent follow-up sessions at 6-month intervals. The outcome measures include the following: Child symptomatology and functioning, family functioning, material resources, and caregiver strain. Time-limited studies addressing the cultural competence of services and the role of primary care providers in systems of care will be conducted at selected points during the evaluation period. Internet-based technology will be used for collecting data via Web-based surveys and for data entry and management. The average annual respondent burden is estimated below for the final 3 years of data collection. The estimate reflects the average number of respondents in each respondent category, the average number of responses per respondent per year, the average length of time it will take for each response, and the total average annual burden for each category of respondent, and for all categories of respondents combined.

This revision to the currently approved information collection activities includes: (1) The addition of a Primary Care Study, and (2) the addition of a Treatment Effectiveness Study. The Primary Care Study seeks to investigate the role of primary health care practitioners (PCPs) in systems of care and to further understand the impact of services provided within primary care on child and family outcomes. One goal of this study is to identity strategies that help primary care and mental health care providers to work together effectively. Another is to identify ways to integrate PCPs into systems of care. The treatment effectiveness study will examine the relative impact of community-based treatments focused within system of care sites. This study will focus on a community-based practice that has not accumulated research evidence, but rather through community-based implementation that has accumulated practice-based evidence.

Instrument | Respondent | Number of respondents | Total average number of responses per respondent | Hours per response | Total burden hours | 3-Year average annual burden hours
System-of-Care Assessment
Interview Guides and Data Collection Forms | Key site informants | 648 | 2 | 1.000 | 1296 | 432
Interagency Collaboration Scale (IACS) | Key site informants | 648 | 2 | 0.133 | 173 | 58
Cross-Sectional Descriptive Study
Caregiver Information Questionnaire (CIQ-IC) | Caregiver | 5922 | 1 | 0.283 | 1676 | 559
Caregiver Information Questionnaire Followup (CIQ-FC) | Caregiver | 5922 | 3 | 0.200 | 3553 | 1184
Child and Family Outcome Study
Caregiver Strain Questionnaire (CGSQ) | Caregiver | 5922 | 4 | 0.167 | 3956 | 1319
Child Behavior Checklist (CBCL)/Child Behavior Checklist 1½-5 (CBCL 1½-5) | Caregiver | 5922 | 4 | 0.333 | 7888 | 2629
Education Questionnaire (EQ) | Caregiver | 5922 | 4 | 0.100 | 2369 | 790
Living Situations Questionnaire (LSQ) | Caregiver | 5922 | 4 | 0.083 | 1966 | 655
The Family Life Questionnaire (FLQ) | Caregiver | 5922 | 4 | 0.054 | 1184 | 395
Behavioral and Emotional Rating Scale (BERS) | Caregiver | 5922 | 4 | 0.167 | 3956 | 1319
Columbia Impairment Scale (CIS) | Caregiver | 5922 | 4 | 0.083 | 1966 | 655
The Vineland Screener (VS) | Caregiver | 2665 | 4 | 0.250 | 2665 | 888
Cultural Competence and Service Provision—Caregiver (CCSP) | Caregiver | 5922 | 3 | 0.167 | 2967 | 989
Delinquency Survey (DS) | Youth | 3553 | 4 | 0.167 | 2374 | 791
Behavioral and Emotional Rating Scale—Second Edition, Youth Rating Scale (BERS-2) | Youth | 3553 | 4 | 0.167 | 2374 | 791
Gain-quick Substance Related Issues (Gain SRI) | Youth | 3553 | 4 | 0.083 | 1180 | 1966
Substance Use Scale (SUS) | Youth | 3553 | 4 | 0.100 | 1421 | 474
Revised Children's Manifest Anxiety Scales (RCMAS) | Youth | 3553 | 4 | 0.050 | 711 | 237
Reynolds Adolescent Depression Scale—Second Edition (RADS-2) | Youth | 3553 | 4 | 0.050 | 711 | 237
Youth Information Questionnaire (YIQ-I) | Youth | 3553 | 1 | 0.167 | 593 | 198
Youth Information Questionnaire (YIQ-F) | Youth | 3553 | 3 | 0.167 | 1780 | 593
Service Experience Study
Multi-Sector Services Contact—Revised for Caregiver (MSSC-RC) | Caregiver | 5922 | 3 | 0.250 | 4442 | 1481
Youth Services Survey for Families (YSS-F) | Caregiver | 5922 | 3 | 0.117 | 2079 | 693
Cultural Competence Practices Study (Focus Group) | Caregiver | 36 | 1 | 1.500 | 54 | 18
Cultural Competence Practices Study (Focus Group) | Youth | 36 | 1 | 1.500 | 54 | 18
Youth Services Survey (YSS-Y) | Youth | 3553 | 4 | 0.083 | 1180 | 393
Cultural Competence Practices Study (Focus Group) | Provider | 60 | 1 | 1.500 | 90 | 30
Treatment Effectiveness Study
Conflict Behavior Questionnaire (CBQ) | Caregiver | 400 | 4 | 0.167 | 267 | 89
Family Assessment Measure (FAM) | Caregiver | 400 | 4 | 0.250 | 400 | 133
Therapeutic Alliance Scale—Caregiver (TAS) | Caregiver | 400 | 4 | 0.167 | 267 | 89
Ohio Scales—Caregiver | Caregiver | 400 | 4 | 0.250 | 400 | 133
Parenting Sense of Competence Scale (PSOC) | Caregiver | 400 | 4 | 0.167 | 267 | 89
Parenting Locus of Control (PLOC) | Caregiver | 400 | 4 | 0.250 | 400 | 133
Therapy Adherence Form | Caregiver | 400 | 4 | 0.167 | 267 | 89
Therapeutic Alliance Scale—Youth (TAS-Y) | Youth | 240 | 4 | 0.167 | 160 | 53
Ohio Scales—Youth | Youth | 240 | 4 | 0.250 | 240 | 80
Primary Care Provider Study
Primary Care Provider—Web survey | Provider | 540 | 1 | 0.500 | 270 | 90
Sustainability Study
Sustainability Web Survey | Caregiver | 27 | 2 | 0.500 | 27 | 9
Sustainability Survey—Provider | Provider/Administrator | 81 | 2 | 0.500 | 81 | 27

Summary of Annualized Burden Estimates for 3 Years
| Number of distinct respondents | Number of responses per respondent | Average burden per response (hours) | Total average annual burden (hours)
Caregivers | 5922 | 1.15 | 2.10 | 14339
Youth | 3553 | 1.19 | 1.01 | 4259
Provider/Administrators | 648 | 0.57 | 1.74 | 637
Total | 10123 |  |  | 19234

Send comments to Summer King, SAMHSA Reports Clearance Officer, Room 7-1044, 1 Choke Cherry Road, Rockville, MD 20857. Written comments should be received within 60 days of this notice.

Dated: December 7, 2006.
Elaine Parry,
Acting Director, Office of Program Services.

[FR Doc. E6-21350 Filed 12-14-06; 8:45 am]

BILLING CODE 4162-20-P